DEPARTMENT OF JUSTICE

[AAG/A ORDER NO. 007-2006]

Privacy Act of 1974; System of Records

Pursuant to the provisions of the Privacy Act of 1974 (5 U.S.C. 552a), notice is given that the Department of Justice (DOJ), Justice Management Division (JMD), Asset Forfeiture Management Staff is enhancing and upgrading its asset-forfeiture program-wide system of records, entitled “Department of Justice Consolidated Asset Tracking System (CATS), Justice/JMD-022.” CATS is the Department of Justice system designated as the system of records for property seized for forfeiture.

In accordance with 5 U.S.C. 552a(e)(4) and (11), the public is given a 30-day period in which to comment on the routine uses; and the Office of Management and Budget (OMB), which has oversight responsibility under the Act, requires a 40-day period in which to conclude its review of the system. Therefore, please submit any comments by June 28, 2006. The public, OMB, and the Congress are invited to submit any comments to Mary Cahill; U.S. Department of Justice; Management and Planning Staff; 1331 Pennsylvania Avenue, NW., National Place Building, Suite 1400; Washington, DC 20530.

In accordance with 5 U.S.C. 552a(r), the Department has provided a report to OMB and the Congress.

Dated: May 11, 2006.
Paul R. Corts,
Assistant Attorney General for Administration.

JUSTICE/JMD-022

System Name

Department of Justice Consolidated Asset Tracking System (CATS).

Security Classification:

Sensitive-But-Unclassified (SBU).

System Location

U.S. Department of Justice, Asset Forfeiture Management Staff, Washington, D.C. 20530.

Categories of Individuals Covered by the System

The system covers persons involved with the ownership of or claims upon property seized for forfeiture under specified Federal statutes and law enforcement policies, including owners, individuals possessing or controlling the property, other parties provided notification of the seizure, lienholders, parties filing claims in contest of the seizure, petitioners, U.S. Attorneys, investigative agents and contractors of the Federal Government.

Categories of Records in the System

Name, address, phone number, Social Security number, and other identifying information of persons referenced in records pertaining to the administration, seizure, custody, notification, claim, petition, forfeiture, disposal, equitable sharing, official use, income and expenses, service of process, and abandonment of property seized for forfeiture.

Authority for Maintenance of the System

28 U.S.C. 524(c); 44 U.S.C. 3101.

Purpose of the System

CATS supports the Federal Government participants in Department of Justice's (DOJ) Asset Forfeiture Program by meeting their operational and management reporting needs for all phases of the asset forfeiture life-cycle including the following major business processes: seizure of forfeitable assets; transfer and custody of seized assets; automation of legal notification and publication requirements; receipt and processing of claims contesting the government's grounds for forfeiture; petition receipt and processing; litigation and administrative proceedings culminating in asset forfeiture, disposal, and equitable sharing.

CATS is an inventory database which stores and processes asset forfeiture data maintained by the Department of Justice (DOJ). Some of the data are owned by other agencies of the Federal Government, and DOJ serves as custodian for the data.

Routine Uses of Records Maintained in the System, Including Categories of Users and the Purposes of Such Uses:

Relevant CATS data may be disclosed as follows:

(1) Law enforcement information may be disclosed to any criminal, civil, or regulatory law enforcement authority (whether Federal, state, local, territorial, tribal, or foreign) where the information is relevant to the recipient entity(s law enforcement responsibilities.

(2) Where a record, either on its face or in conjunction with other information, indicates a violation or potential violation of law—criminal, civil, or regulatory in nature—the relevant records may be referred to the appropriate Federal, state, local, foreign, or tribal, law enforcement authority or other appropriate agency charged with the responsibility of investigating or prosecuting such a violation or enforcing or implementing such law.

Relevant information may be disclosed:

(3) To contractors, grantees, experts, consultants, students, and others performing or working on a contract, service, grant, cooperative agreement, or other assignment for the Federal Government, when necessary to accomplish an agency function related to this system of records.

(4) To a former employee of the Department for purposes of: responding to an official inquiry by a Federal, state, or local government entity or professional licensing authority, in accordance with applicable Department regulations; or facilitating communications with a former employee that may be necessary for personnel-related or other official purposes where the Department requires information and/or consultation assistance from the former employee regarding a matter within that person(s former area of responsibility.

(5) To a Member of Congress or staff acting upon the Member's behalf when the Member or staff requests the information on behalf of, and at the request of, the individual who is the subject of the record.

(6) To the National Archives and Records Administration for purposes of records management inspections conducted under the authority of 44 U.S.C. 2904 and 2906.

Disclosure to Consumer Reporting Agencies:

Not Applicable.

Policies and Practices for Storing, Retrieving, Accessing, Retaining, and Disposing of Records in the System:

Storage:

Records are stored in electronic form and on paper.

Retrievability:

Information is retrieved by unique asset identifiers, to include names of individuals (if applicable), Social Security Numbers and Tax Identification Numbers.

Safeguards:

Information in this system is safeguarded in accordance with applicable rules and policies, including the Department's automated systems security and access policies. In general, records and technical equipment are maintained in buildings with restricted access. The required use of password protection identification features and other system protection methods also restrict access. Access is limited to those who have an official need for access to perform their official duties.

Retention and Disposal:

There are over 820,000 records stored in the system. A request for Records Disposition Authority is pending with the National Archives and Records Administration.

System Manager and Address:

Assistant Director of Systems (CATS), Asset Forfeiture Management Staff, Justice Management Division, Department of Justice, 20 Massachusetts Ave., NW, Washington, DC 20530

Notification Procedures:

Address inquiries to System Manager named above.

Record Access Procedures:

Requests for access must be in writing and should be addressed to the System Manager named above. The envelope and letter should be clearly marked “Privacy Act Access Request.”

The request should include a general description of the records sought and must include the requester's full name, current address, and date and place of birth. The request must be signed and dated and either notarized or submitted under penalty of perjury.

Contesting Record Procedures:

Individuals desiring to contest or amend the information maintained in the system should direct their request according to the Records Access procedures and to the System Manager listed above, stating clearly and concisely what information is being contested, the reasons for contesting it, and the proposed amendment to the information sought.

Record Source Categories:

Sources of information contained in these systems include DOJ and other Federal Agencies participating in the DOJ Asset Forfeiture Program.

Exemptions Claimed for the System:

None.

[FR Doc. E6-7571 Filed 5-18-06; 8:45 am]

BILLING CODE 4410-NH-P